COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List products and services to be furnished by nonprofit agencies employing persons who are blind or have other severe disabilities.

DATES: Effective Date: August 24, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION: On May 30 and June 6, 2008, the Committee for Purchase From People Who Are Blind or Severely Disabled published notice (73 FR 31056; 31057; 32287) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Paper, Tabulating Machine

NSN: 7530-00-185-6752—Paper, Tabulating Machine.

NPA: Association for Vision Rehabilitation and Employment, Inc., Binghamton, NY.

Coverage: B-List for the broad Government requirement as specified by the General Services Administration.

Tri-Wall Aerial Distribution System (TRIADS) Humanitarian Airdrop Kit

NSN: 8115-01-544-2416.

NPA: Tarrant County Association for the Blind, Fort Worth, TX.

Coverage: B-List for the broad Government requirement as specified by the General Services Administration.

Contracting Activity: General Services Administration, Office Supplies & Paper Products Acquisition Ctr, New York, NY.

Services

Service Type/Location: Administrative Services, Carl Vinson VA Medical Center, 1826 Veterans Blvd., Dublin, GA.

Service Type/Location: Administrative Services, Charlie Norwood VA Medical Center, Uptown Division Complex—1 Freedom Highway, Downtown Division Complex—950 15th Street, Augusta, GA.

NPA: Bobby Dodd Institute, Inc., Atlanta, GA.

Contracting Activity: VISN 7 Network Logistics, Augusta, GA.

Service Type/Location: Base Supply Center, Base Supply Center, Camp Atterbury, IN.

NPA: L.C. Industries for the Blind, Inc., Durham, NC.

Contracting Activity: United States Property & Fiscal Officer for Indiana, Indianapolis, IN.

Service Type/Location: Document Destruction, Department of Health and Human Services, Office of Medicare Hearings and Appeals, 200 Public Square, Cleveland, OH.

NPA: Weaver Industries, Inc., Akron, OH.

Contracting Activity: Department of Health and Human Services, Rockville, MD.

Service Type/Location: Mailroom Operations, Moody Air Force Base, 5293 Schrader St., Moody Air Force Base, GA.

NPA: Bobby Dodd Institute, Inc., Atlanta, GA.

Contracting Activity: Moody Air Force Base, Moody AFB, GA.

Service Type/Location: Mailroom Operations, Internal Revenue Service, 50 South 200 East, Salt Lake City, UT.

NPA: ServiceSource, Alexandria, VA (Prime Contractor).

NPA: Utah Industries for the Blind, Salt Lake City, UT (Sub-Contractor).

Service Type/Location: Mailroom Operations, Internal Revenue Service, 801 Civic Center Drive, West, Santa Ana, CA.

NPA: ServiceSource, Alexandria, VA (Prime Contractor).

NPA: Pacific Coast Community Services, Richmond, CA (Sub-Contractor).

Contracting Activity: U.S. Department of the Treasury, Internal Revenue Services Headquarters, Oxon Hill, MD.

This action does not affect current contracts awarded prior to the effective date of this addition or options that may be exercised under those contracts.

Kimberly M. Zeich,
Director, Program Operations.

[FR Doc. E8-17105 Filed 7-24-08; 8:45 am]

BILLING CODE 6353-01-P